DEPARTMENT OF THE INTERIOR

National Park Service

60-Day Notice of Intention To Request Clearance of Collection of Information; Opportunity for Public Comment

AGENCY: Department of Interior, National Park Service.

ACTION: Notice and request for comments.

SUMMARY: Under the provisions of the Paperwork Reduction Act of 1995 and 5 CFR part 1320, Reporting and Record Keeping Requirements, the National Park Service (NPS) invites public comments on a new collection of information.

DATES: Public comments on this Information Collection Request (ICR) will be accepted on or before March 15, 2010.

ADDRESSES: Send comments to: Brian Mitchell, Northeast Temperate Inventory and Monitoring Network, NPS, 54 Elm Street, Woodstock, VT 05091; or via fax at 802-457-3405; or via e-mail at brian_mitchell@nps.gov. All responses to the Notice will be summarized and included in the request for the Office of Management and Budget (OMB) approval. All comments will become a matter of public record.

To Request a Draft of Proposed Collection of Information Contact: Brian Mitchell, NPS, 54 Elm Street, Woodstock, VT 05091; or via phone at 802/457-3368; or via fax at 802/457-3368; or via e-mail at brian_mitchell@nps.gov. You are entitled to a copy of the entire ICR package free of charge once the package is submitted to OMB for review.

SUPPLEMENTARY INFORMATION: Title: Citizen Science Phenology Monitoring in National Parks.

Form(s): None.

Type of Request: A new collection of information.

Description of Need: The Government Performance and Results Act (GPRA) of 1995 (Pub. Law 103-62) and the National Park Service (NPS) Strategic Plan require that the NPS develop goals to improve program effectiveness and public accountability. This collection will encourage the public to collect data relevant to goal 1b: “The National Park Service contributes to knowledge about natural and cultural resources and associated values; management decisions about resources and visitors are based on adequate scholarly and scientific information”. This collection is also consistent with the NPS Management Policies (2006), which emphasize the “use of qualitative and quantitative techniques to monitor key aspects of resources and processes at regular intervals” and furthermore state that “studies, research, and collection activities by non-NPS personnel involving natural and cultural resources will be encouraged and facilitated when they otherwise comport with NPS policies.” More specifically, the goal of this collection is to engage the public in documenting the timing of biological events (“phenology”) for a variety of species at numerous different locations. The data collected will help the NPS document how climate change is affecting the timing of biological events such as migration, flowering, and autumn foliage.

The proposed Internet- and paper-based surveys will ask the public to participate in the collection of these data on NPS lands. With sufficient participation, NPS will obtain critical information for determining trends in the timing of biological events for many species. In addition to documenting changes in timing of events, the data set will facilitate the identification of species most at risk from climate change and anthropogenic influences. Survey participants will provide their contact information and multiple observations of species at one or more sites. The contact information will be used for quality control and (at the request of the participant) to provide data summaries or reports and information about additional opportunities for assisting with NPS research and monitoring activities. The obligation to respond is voluntary.

Automated Data Collection: The information will be collected through an Internet site, as well as through paper forms available at public locations.

Description of respondents: Respondents are members of the public with an interest in contributing to climate change research in the National Parks.

Estimated average number of responses: 1,000 per year.

Frequency of Response: 5 per respondent.

Estimated average time burden per respondent: 30 minutes.

Estimated total annual reporting burden: 100 hours per year.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

December 23, 2009.
Cartina A. Miller,
Information Collection Clearance Officer, National Park Service.

[FR Doc. 2010-446 Filed 1-12-10; 8:45 am]

BILLING CODE P